NUCLEAR REGULATORY COMMISSION

10 CFR Parts 40 and 150

[NRC-2009-0079]

RIN 3150-AI50

Domestic Licensing of Source Material—Amendments/Integrated Safety Analysis

AGENCY: Nuclear Regulatory Commission.

ACTION: Proposed rule; correction.

SUMMARY: The U.S. Nuclear Regulatory Commission (NRC) is correcting a proposed rule that was published in the Federal Register (FR) on May 17, 2011 (76 FR 28336). The proposed rule announced the availability of a draft regulatory analysis for public comment. This document corrects the NRC's Agencywide Documents Access and Management System (ADAMS) accession number that appeared in Section XI, “Regulatory Analysis.” The correct ADAMS accession number is ML102380243.

DATES: The proposed rule published at 76 FR 28336 is corrected as of June 1, 2011.

FOR FURTHER INFORMATION CONTACT: Cindy Bladey, Chief, Rules, Announcements, and Directives Branch, Office of Administration, Nuclear Regulatory Commission, Washington, DC 20555-0001, telephone: 301-492-3667; e-mail: Cindy.Bladey@nrc.gov.

SUPPLEMENTARY INFORMATION: The following correction is made to FR Doc. 2011-11927, published in the Federal Register on May 17, 2011, on Page 28351, in the center column, under Section XI, “Regulatory Analysis,” third paragraph, seventh line; “ML102380248” is corrected to read “ML102380243.”

Dated at Rockville, Maryland, this 25 day of May, 2011.
For the Nuclear Regulatory Commission.
Cindy Bladey,
Chief, Rules, Announcements, and Directives Branch, Division of Administrative Services, Office of Administration.

[FR Doc. 2011-13403 Filed 5-31-11; 8:45 am]

BILLING CODE 7590-01-P